DEPARTMENT OF TRANSPORTATION

Federal Aviation Administration

Notice of Passenger Facility Charge (PFC) Approvals and Disapprovals

AGENCY: Federal Aviation Administration (FAA), DOT.

ACTION: Monthly Notice of PFC Approvals and Disapprovals. In September 2010, there were four applications approved. This notice also includes information on seven applications, one approved in May 2009, two approved in July 2010, and four approved in August 2010, inadvertently left off the May 2009, July 2010, and August 2010 notices, respectively. Additionally, 17 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Massachusetts Port Authority, Boston, Massachusetts.

Application Number: 09-05-U-00-BOS.

Application Type: Use PFC revenue.

PFC Level: $4.50.

Total PFC Revenue Approved for Use in This Decision: $9,756,941.

Charge Effective Date: February 1, 2011.

Estimated Charge Expiration Date: February 1, 2016.

Class of Air Carriers Not Required To Collect PFCs: No change from previous decision.

Brief Description of Project Approved for Use: Centerfield taxiway.

Decision Date: May 15, 2009.

For Further Information Contact: Priscilla Scott, New England Region Airports Division, (781) 238-7614.

Public Agency: State of Connecticut Department of Transportation, Bureau of Aviation and Ports, Windsor Locks, Connecticut.

Application Number: 10-18-C-00-BDL.

Application Type: Impose and use a PFC.

PFC Level: $4.50.

Total PFC Revenue Approved in This Decision: $5,243,181.

Earliest Charge Effective Date: July 1, 2021.

Estimated Charge Expiration Date: December 1, 2021.

Class of Air Carriers Not Required To Collect PFCs: On-demand air taxi commercial operators.

Determination: Approved. Based on information contained in the public agency's application, the FAA has determined that the approved class accounts for less than 1 percent of the total annual enplanements at Bradley International Airport.

Brief Description of Projects Approved for Collection and Use at a $4.50 PFC Level: Residential sound insulation program. Relocate airfield lighting vault.

Brief Description of Projects Approved for Collection and Use at a $3.00 PFC Level: New terminal development schematic preliminary engineering study and design. Replace two 1997 snow blower attachments. Replace two 1997 snow broom attachments.

Decision Date: July 26, 2010.

For Further Information Contact: Priscilla Scott, New England Region Airports Division, (781) 238-7614.

Public Agency: Wichita Airport Authority, Wichita, Kansas.

Application Number: 10-07-C-00-ICT.

Application Type: Impose and use a PFC.

PFC Level: $4.50.

Total PFC Revenue Approved in This Decision: $166,384,422.

Earliest Charge Effective Date: November 1, 2010.

Estimated Charge Expiration Date: April 1, 2046.

Class of Air Carriers Not Required To Collect PFCs: None.

Brief Description of Projects Approved for Collection and Use: Air carrier apron. Pavement condition inventory. New terminal building. Landside utilities and Mid-Continent Drive relocation. Consultant services. Multi-purpose snow vehicle. Snow removal equipment facility site improvements.

Brief Description of Disapproved Project: Financing costs (audit).

Determination: Disapproved. The public agency did not provide sufficient information in the justification and PFC objective sections of the Attachment B for this project.

Decision Date: July 28, 2010.

For Further Information Contact: Jim Johnson, Central Region Airports Division, (816) 329-2600.

Public Agency: City of Saint Louis, Missouri.

Application Number: 10-10-U-00-STL.

Application Type: Use PFC revenue.

PFC Level: $3.00.

Total PEG Revenue Approved for Use in This Decision: $6,488,607.

Charge Effective Date: June 1, 2019.

Estimated Charge Expiration Date: February 1, 2022.

Class of Air Carriers Not Required To Collect PFC's: No change from previous decision.

Brief Description of Project Approved for Use: Taxiway reconstruction (F and V).

Decision Date: August 13, 2010.

For Further Information Contact: Nicoletta Oliver, Central Region Airports Division, (816) 329-2642.

Public Agency: Meridian Airport Authority, Meridian, Mississippi.

Application Number: 10-11-C-00-MEI.

Application Type: Impose and use a PFC.

PFC Level: $4.50.

Total PFC Revenue Approved in This Decision: $240,000.

Earliest Charge Effective Date: August 1, 2017.

Estimated Charge Expiration Date: October 1, 2020.

Class of Air Carriers Not Required To Collect PFC's: None.

Brief Description of Projects Approved for Collection and Use: Improve terminal building. Construct apron. Rehabilitate/construct hangar access road. Wildlife control equipment, fencing, perimeter road.

Decision Date: August 16, 2010.

For Further Information Contact: Kevin Morgan, Jackson Airports District Office, (601) 664-9891.

Public Agency: County of Okaloosa, Valparaiso, Florida.

Application Number: 10-05-C-00-VPS.

Application Type: Impose and use a PFC.

PFC Level: $4.50.

Total PFC Revenue Approved in This Decision: $7,816,386.

Earliest Charge Effective Date: April 1, 2021.

Estimated Charge Expiration Date: May 1, 2025.

Class of Air Carriers Not Required To Collect PFC's: Air carriers when operating military-related charter flights not enplaning passengers at the Northwest Florida Regional Airport (VPS) terminal building but at the Eglin Air Force Base military facilities.

Determination: Approved. Based on information contained in the public agency's application, the FAA has determined that the approved class accounts for less than 1 percent of the total annual enplanements at VPS.

Brief Description of Projects Approved for Collection and Use: Terminal additions phase 1A. Construct and equip new west side surface public parking lot. Construct and equip expansion of west side surface public parking lot and rehabilitate north public parking lot. Install high mast lighting for cargo apron. PFC program formulation and administrative costs.

Brief Description of Projects Partially Approved for Collection and Use: Construct cargo apron. Terminal additions phase 1B.

Determination: The amount requested by the public agency, when combined with the other funding sources for these projects, exceeded the stated total project cost. Therefore, the PFC amount for each project was reduced.

Decision Date: August 24, 2010.

For Further Information Contact: Susan Moore, Orlando Airports District Office, (407) 812-6331.

Public Agency: Akron—Canton Regional Airport Authority, Akron, Ohio.

Application Number: 10-07-C-00-CAK.

Application Type: Impose and use a PFC.

PFC Level: $4.50.

Total PFC Revenue Approved in This Decision: $7,221,614.

Earliest Charge Effective Date: August 1, 2015.

Estimated Charge Expiration Date: January 1, 2019.

Class of Air Carriers Not Required To Collect PFC's: Air taxi/commercial operators.

Determination: Approved. Based on information contained in the public agency's application, the FAA has determined that the approved class accounts for less than 1 percent of the total annual enplanements at Akron-Canton Regional Airport.

Brief Description of Projects Approved for Collection and Use: De-icing north pad construction. De-icing south pad construction. De-icing treatment plant. Domestic water service. CTX design and installation. Landside planning effort study. Runways 5 and 23 environmental assessment study. Runways 5 and 23 runway safety area fix. Wildlife habitat removal. Aircraft rescue and firefighting, snow removal equipment storage facility design. Aircraft rescue and firefighting, snow removal equipment storage facility construction. Aircraft rescue and firefighting vehicle A. Aircraft rescue and firefighting vehicle b. Federal inspection facility study.

Decision Date: August 31, 2010.

For Further Information Contact: Irene Porter, Detroit Airports District Office, (734) 229-2915.

Public Agency: County of Montrose, Montrose, Colorado.

Application Number: 10-05-C-00-MTJ.

Application Type: Impose and use a PFC.

PFC Level: $4.50.

Total PFC Revenue Approved in This Decision: $2,046,975.

Earliest Charge Effective Date: November 1, 2010.

Estimated Charge Expiration Date: December 1, 2015.

Class of Air Carriers Not Required To Collect PFC's: None.

Brief Description of Projects Approved for Collection and Use: Apron construction. Aircraft rescue and firefighting vehicle. Conduct wildlife study. Snow removal equipment. Terminal building expansion. Enhanced taxiway centerline markings. Security fence. PFC administration.

Decision Date: September 1, 2010.

For Further Information Contact: Chris Schaffer, Denver Airports District Office, (303) 342-1258.

Public Agency: City of Long Beach, California.

Application Number: 10-05-C-00-LGB.

Application Type: Impose and use a PFC.

PFC Level: $4.50.

Total PFC Revenue Approved in This Decision: $10,845,000.

Earliest Charge Effective Date: September 1, 2025.

Estimated Charge Expiration Date: January 1, 2027.

Class of Air Carriers Not Required To Collect PFC's: Non-scheduled/on-demand air carriers filing FAA Form 1800-31.

Determination: Approved. Based on information contained in the public agency's application, the FAA has determined that the approved class accounts for less than 1 percent of the total annual enplanements at Long Beach/Daughterty Field Airport.

Brief Description of Projects Approved for Collection and Use: Airfield pavement and infrastructure improvements. Airfield signage replacement. Aircraft rescue and firefighting station improvements. Terminal area access road. Residential sound attenuation program.

Decision Date: September 2, 2010.

For Further Information Contact: Darlene Williams, Los Angeles Airports District Office, (310) 725-3625.

Public Agency: County of Natrona Board of Trustees, Casper, Wyoming.

Application Number: 10-06-C-00-CPR.

Application Type: Impose and use a PFC.

PFC Level: $4.50.

Total PFC Revenue Approved in This Decision: $300,545.

Earliest Charge Effective Date: November 1, 2011.

Estimated Charge Expiration Date: August 1, 2014.

Class of Air Carriers Not Required To Collect PFC's: None.

Brief Description of Projects Approved for Collection and Use: Acquire runway broom. Taxiway Alpha rehabilitation design. Acquire passenger boarding ramp. Acquire 1,500 gallon aircraft rescue and firefighting vehicle. Cargo master plan. Rehabilitate taxiway Alpha. Rehabilitate taxiway Alpha design. Installation of common-use passenger jetway. Rehabilitation of aircraft parking ramp. Security upgrades. Rehabilitation of aircraft parking ramp design. Airport layout plan. Airport security enhancements. Acquire chemical spreader/acquire airfield friction decelerometer.

Brief Description of Disapproved Project: 9/11 security.

Determination: Disapproved. The FAA determined that this project did not meet the requirements of § 158.15(b).

Decision Date: September 10, 2010.

For Further Information Contact: Chris Schaffer, Denver Airports District Office, (303) 342-1258.

Public Agency: Lee County Port Authority, Fort Myers, Florida.

Application Number: 10-07-C-00-RSW.

Application Type: Impose and use a PFC.

PFC Level: $4.50.

Total PFC Revenue Approved in This Decision: $51,877,571.

Earliest Charge Effective Date: February 1, 2015.

Estimated Charge Expiration Date: August 1,2018.

Class of Air Carriers Not Required To Collect PFC's: Air taxi/commercial operators filing FAA Form 1800-31.

Determination: Approved. Based on information contained in the public agency's application, the FAA has determined that the approved class accounts for less than 1 percent of the total annual enplanements at Southwest Florida International Airport.

Brief Description of Projects Approved for Collection and Use at a $4.50 PFC Level: Aircraft rescue and firefighting station design and construction. Midfield taxiways and apron system design and construction. Aircraft rescue and firefighting equipment.

Brief Description of Project Approved for Collection and Use at a $3.00 PFC Level: PFC implementation and administrative costs.

Brief Description of Projects Partially Approved for Collection and Use at a $3.00 PFC Level: Parallel runway 6R/24L and air traffic control tower design and permitting.

Determination: Partially approved. The FAA determined that portions of the proposed project were not justified at this time. Passenger terminal improvements.

Determination: Partially approved. The FAA determined that the portions of the proposed project related to the solar energy project were not eligible. Mitigation park enhancements/expansion and environmental compliance programs.

Determination: Partially approved. The FAA determined that the automated permit tracking system, best management practices and cleanup, environmental remediation of the RSW rental car quick turn-around facility, and cleanup of contaminated soils were not PFC-eligible. Master planning and noise studies.

Determination: Partially approved. The FAA determined that the purchase and installation of a digital document management and reporting system and the purchase of project management and reporting software and systems are not PFC eligible.

Decision Date: September 22, 2010.

For Further Information Contact: Susan Moore, Orlando Airports District Office, (407) 812-6331.

Amendments to PFC Approvals
Amendment No., city, state | Amendment approved dated | Original approved net PFC revenue | Amended approved net PFC revenue | Original estimated charge exp. date | Amended estimated charge exp. date
97-04-C-01-ACV, Arcata, CA | 07/27/10 | $1,482,300 | $1,084,184 | 06/01/03 | 06/01/03
02-08-C-05-CVG, Covington, KY | 09/07/10 | 213,098,000 | 212,737,000 | 05/01/09 | 05/01/09
05-09-C-07-CVG, Covington, KY | 09/07/10 | 38,846,000 | 36,676,000 | 06/01/11 | 11/01/10
06-10-C-04-CVG, Covington, KY | 09/07/10 | 42,402,000 | 35,499,000 | 07/01/12 | 11/01/13
07-11-C-02-CVG, Covington, KY | 09/07/10 | 3,590,000 | 3,601,000 | 09/01/12 | 03/01/14
09-12-C-01-CVG, Covington, KY | 09/07/10 | 26,249,000 | 21,455,000 | 09/01/14 | 01/01/16
07-05-C-01-YNG, Youngstown, OH | 09/10/10 | 441,000 | 312,696 | 09/01/12 | 05/01/11
05-07-C-03-FLL,Fort Lauderdale, FL | 09/15/10 | 110,428,401 | 111,243,201 | 11/01/08 | 11/01/08
08-09-C-01-FLL, Fort Lauderdale, FL | 09/16/10 | 143,826,944 | 100,826,944 | 10/01/12 | 11/01/11
00-03-C-02-BIL, Billings, MT | 09/16/10 | 5,163,262 | 3,278,253 | 10/01/05 | 04/01/04
05-04-C-01-BIL, Billings, MT | 09/16/10 | 3,300,000 | 3,285,586 | 05/01/07 | 04/01/07
05-08-C-02-BGM, Binghamton, NY | 09/16/10 | 1,360,195 | 1,361,418 | 02/01/08 | 02/01/08
08-10-C-01-BGM, Binghamton, NY | 09/16/10 | 1,047,455 | 1,634,297 | 10/01/10 | 03/01/12
08-11-C-01-BGM, Binghamton, NY | 09/16/10 | 149,796 | 165,264 | 08/01/12 | 09/01/12
09-12-C-01-BGM, Binghamton, NY | 09/16/10 | 15,421 | 15,421 | 09/01/12 | 10/01/12
10-13-C-01-BGM, Binghamton, NY | 09/16/10 | 492,974 | 792,974 | 07/01/12 | 04/01/14
09-10-C-01-FLL, Fort Lauderdale, FL | 09/23/10 | 223,211,000 | 227,729,300 | 03/01/17 | 04/01/17

Issued in Washington, DC, on October 5, 2010.
Joe Hebert,
Manager, Financial Analysis and Passenger Facility Charge Branch.

[FR Doc. 2010-25994 Filed 10-22-10; 8:45 am]

BILLING CODE 4910-13-M